DEPARTMENT OF LABOR

Employment and Training Administration

Investigations Regarding Certifications of Eligibility To Apply for NAFTA Transitional Adjustment Assistance

Petitions for transitional adjustment assistance under the North American Free Trade Agreement-Transitional Adjustment Assistance Implementation Act (Public Law 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Office of Trade Adjustment Assistance (OTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Public Law 103-182) are eligible to apply for NAFTA-TAA under Subchapter D of the Trade Act because of increased imports from or the shift in production to Mexico or Canada.

The petitioners or any other persons showing a substantial interest in the subject matter of the investigations may request a public hearing with the Director of OTAA at the U.S. Department of Labor (DOL) in Washington, DC provided such request if filed in writing with the Director of OTAA not later than February 14, 2000.

Also, interested persons are invited to submit written comments regarding the subject matter of the petitions to the Director of OTAA at the address shown below not later than February 14, 2000.

Petitions filed with the Governors are available for inspection at the Office of the Director, OTAA, ETA, DOL, Room C-4318, 200 Constitution Avenue, NW., Washington, DC 20210.

Signed at Washington, DC, this 28th day of January, 2000.
Grant D. Beale,
Program Manager,Office of Trade Adjustment Assistance.

Appendix

Subject firm | Location | Date received at governor's office | Petition No. | Articles produced
Tultex Corporation (Co.) | Roxboro, NC | 12/15/1999 | NAFTA-3,623 | sweatshirts.
Tultex Corporation (Co.) | Longhurst, NC | 12/15/1999 | NAFTA-3,623 | sweatshirts.
Ritvik Holdings (Wkrs) | Lakeville, MA | 12/16/1999 | NAFTA-3,624 | plastic toy blocks.
Master Foam (Co.) | North Hollywood, CA | 12/14/1999 | NAFTA-3,625 | foam for packaging.
Russell Manufacturing—Movie Star (Co.) | Lebanon, VA | 12/15/1999 | NAFTA-3,626 | ladies clothing.
Tultex Corporation (UNITE) | South Boston, VA | 12/15/1999 | NAFTA-3,627 | fleece activewear.
Russell Corporation (Co.) | Columbia, AL | 12/15/1999 | NAFTA-3,628 | sweatshirts and t-shirts.
Russell Corporation (Co.) | Crestview, FL | 12/16/1999 | NAFTA-3,629 | sweatshirts and t-shirts.
Allied Signal (Co.) | Ocala, FL | 12/13/1999 | NAFTA-3,630 | heat transfer and fan aerospace hardware.
Rebound Manufacturing (Co.) | New London, NC | 12/13/1999 | NAFTA-3,631 | t-shirts.
Belmont Garment Dyers (Wkrs) | Reading, PA | 12/17/1999 | NAFTA-3,632 | dyer of garments.
Tultex Corporation (UNITE) | Roanoke, VA | 12/16/1999 | NAFTA-3,633 | fleece activewear.
General Electric Capital (Wkrs) | Brookfield, WI | 12/10/1999 | NAFTA-3,634 | service collectors.
Whistler Corporation of Massachusetts (Co.) | Novi, MI | 10/01/1999 | NAFTA-3,635 | circuit boards.
Cooper Standard Automotive (Wkrs) | Gaylord, MI | 12/21/1999 | NAFTA-3,636 | seals for car windows.
Laurel Mold, Inc. (Wrks) | Jeannette, PA | 12/21/1999 | NAFTA-3,637 | Glass Molds.
Fox Point Sportswear ( ) | Merrill, WI | 12/23/1999 | NAFTA-3,638 | Apparel.
Dana Corporation (USWA) | Reading, PA | 12/23/1999 | NAFTA-3,639 | light duty pickup truck frames.
Boeing Co. (The) ( ) | Melbourne, AR | 12/27/1999 | NAFTA-3,640 | Boeing Aircraft Assemblies.
Thomas Bradford Shirt (UNITE) | Huntington, TN | 12/27/1999 | NAFTA-3,641 | woven shirts.
Dezurik—General Signal (Wkr) | McMinnville, TN | 12/27/1999 | NAFTA-3,642 | eccentric gate and butterfly valves.
Republic Builders Products (Wkrs) | McKenzie, TN | 12/27/1999 | NAFTA-3,643 | frames for commercial doors.
Penguin Putnam (Wkrs) | Newbern, TN | 12/28/1999 | NAFTA-3,644 | book distribution center.
Yates Industries—Circuit Foil (IUE) | Bordentown, NJ | 12/21/1999 | NAFTA-3,645 | electro deposited copper foil.
Seagull Lighting (Wkrs) | Philadelphia, PA | 12/29/1999 | NAFTA-3,646 | lighting fixtures.
Jet Sew Technologies (Wkrs) | Barneveld, NY | 12/28/1999 | NAFTA-3,647 | industrial sewing machines.
Wardson (Co.) | Adamsville, TN | 01/03/2000 | NAFTA-3,648 | sewing thread.
Fogel Neckwear (Wkrs) | New York, NY | 12/28/1999 | NAFTA-3,649 | men's and boys' neckwear.
Ball Foster Glass Container (GMPPA) | Marion, IN | 01/03/2000 | NAFTA-3,650 | glass containers for beverages.
IPM Service (Co.) | Dallas, TX | 01/07/2000 | NAFTA-3,651 | testers.
ABB Automotive (Wkrs) | Williamsport, PA | 01/07/2000 | NAFTA-3,652 | cable, harnesses and assemblies.
Goss Graphics Systems (Wkrs) | Wyomissing, PA | 01/05/2000 | NAFTA-3,653 | printing presses.
Porta Systems—North Hills Electronics (Co.) | Glen Cove, NY | 01/05/2000 | NAFTA-3,654 | transformers.
Broan Nutone (Co.) | Coppell, TX | 01/05/2000 | NAFTA-3,655 | rangehood.
Bailey Creation (Wkrs) | York, AL | 12/21/1999 | NAFTA-3,656 | baby clothes, children clothes.
Third Generation (Co.) | Latta, SC | 01/04/2000 | NAFTA-3,657 | ladies apparel.
Third Generation (Co.) | Ware Shoals, SC | 01/04/2000 | NAFTA-3,657 | ladies apparel.
Third Generation (Co.) | Honea Path, SC | 01/04/2000 | NAFTA-3,657 | ladies apparel.
Martin Mills (Fruit of the Loom) (Wkrs) | St. Martinville, LA | 01/06/2000 | NAFTA-3,658 | t-shirts and briefs.
First Fleet (Wkrs) | Murfreesboro, TN | 01/10/2000 | NAFTA-3,659 | trucking service.
Sony Electronics (Co.) | Frackville, PA | 01/11/2000 | NAFTA-3,660 | audio speakers.
Fasco Motors Group (Wrks) | Eldon, MO | 01/12/2000 | NAFTA-3,661 | Fractional Horsepower Motors.
Gatesville Walls Industries (Comp) | Gatesville, TX | 01/12/2000 | NAFTA-3,662 | Insulated Clothing.
Walls Industries, Inc (Comp) | Carthage, MO | 01/12/2000 | NAFTA-3,663 | Insulated Clothing.
Snap-On, Inc. (Wrks) | Ottawa, IL | 01/12/2000 | NAFTA-3,664 | Electrical Harnesses.
Cooper Lighting ( ) | Elk Grove Village, IL | 01/12/2000 | NAFTA-3,665 | Lighting Fixtures.
Otis Elevator ( ) | Bloomington, IN | 01/11/2000 | NAFTA-3,666 | Fixtures.
Winpak Portion Packaging ( ) | Bristol, PA | 01/13/2000 | NAFTA-3,667 | Single Service Dairy Containers.
Barrick Goldstrike (Wrks) | Elko, NV | 01/13/2000 | NAFTA-3,668 | Gold.
Mineral Ridge Resources, Inc. (Comp) | Silver Peak, NV | 01/11/2000 | NAFTA-3,669 | Gold Mine.
PacifiCorp (Wrks) | Portland, OR | 01/14/2000 | NAFTA-3,670 | Power Electricity.
Southeast Stevedoring Corp (Wrks) | Ketchikan, AK | 01/13/2000 | NAFTA-3,671 | Hire Longshoremen.
Miller International, Inc (Comp) | Rocky Ford, CO | 01/18/2000 | NAFTA-3,672 | Ladies' Jeans and Vests.
Apparel Specialist (Co.) | Green Bay, WI | 01/21/2000 | NAFTA-3,673 | embroidered and screen print on clothes.
Florence Eiseman (Wkrs) | Milwaukee, WI | 01/21/2000 | NAFTA-3,674 | girls dresses, coats and baby clothes.
KTI Energy of Martinsville (Co.) | Martinsville, VA | 01/18/2000 | NAFTA-3,675 | steam.
BICC General (Wkrs) | Williamstown, MA | 01/13/2000 | NAFTA-3,676 | cord sets.
American Timber (Wkrs) | Olney, MT | 01/14/2000 | NAFTA-3,677 | stud lumber and byproducts.
John Plant Company (The) (Co.) | Ramseur, NC | 01/14/2000 | NAFTA-3,678 | lightweight industrial gloves.
Nordic Group (The) (Wkrs) | Hubbard, OR | 01/18/2000 | NAFTA-3,679 | outerwear.
Sause Bros./Southern Oregon Maine (Wkrs) | Coos Bay, OR | 01/14/2000 | NAFTA-3,680 | repair maintenance.
Smiley Container—Russell Stover Candies (PACE) | Poplar Bluff, MO | 01/25/2000 | NAFTA-3,681 | boxes, bows and ribbons.
Colorado Greenhouse (Co.) | Westminster, CO | 01/19/2000 | NAFTA-3,682 | tomatoes.
Nova Bus (Wkrs) | Boswell, NM | 01/19/2000 | NAFTA-3,683 | large commercial buses.
Allied Signal—Honeywell (Wkrs) | Torrance, CA | 01/18/2000 | NAFTA-3,684 | automotive turbo chargers.
ASC (Wkrs) | Rancho Domingez, CA | 01/19/2000 | NAFTA-3,685 | convertible tops.
General Electric (IUE) | Tell City, IN | 08/26/1999 | NAFTA-3,686 | industrial motors.
Hewlett Packard (Wkrs) | Vancouver, WA | 01/24/2000 | NAFTA-3,687 | inkjet printers for computers
Motor Coils (IUE) | Emporium, PA | 01/24/2000 | NAFTA-3,688 | rebuild traction motor.

[FR Doc. 00-2499 Filed 2-3-00; 8:45 am]

BILLING CODE 4510-30-M